OFFICE OF PERSONNEL MANAGEMENT

January 2003 Pay Adjustments

AGENCY: Office of Personnel Management.

ACTION: Notice.

SUMMARY: The President adjusted the rates of basic pay and locality payments for certain categories of Federal employees effective in January 2003. This notice documents those pay adjustments for the public record.

FOR FURTHER INFORMATION CONTACT: Carey Johnston, (202) 606-2858, FAX (202) 606-0824, or email to pay-performance-policy@opm.gov.

SUPPLEMENTARY INFORMATION: On December 31, 2002, the President signed Executive Order 13282 (68 FR 1133, January 8, 2003), which implemented the January 2003 across-the-board increase of 3.1 percent in the rates of basic pay for the statutory pay systems. On March 21, 2003, the President signed Executive Order 13291 (68 FR 14525, March 25, 2003), which amended Executive Order 13282 to provide a locality pay increase costing approximately 1 percent of payroll retroactive to the first day of the first pay period beginning on or after January 1, 2003. The President made these adjustments consistent with Public Law 108-7, February 20, 2003, which authorized an overall average pay increase of 4.1 percent for General Schedule (GS) employees.

Schedule 1 of Executive Order 13282 provides the rates for the 2003 General Schedule and reflects a 3.1 percent across-the-board increase. Executive Order 13291 provides the percentage amounts of the 2003 locality payments. (See section 5 of Executive Order 13282 and Schedule 9 of Executive Order 13291.)

The publication of this notice satisfies the requirement in section 5(b) of Executive Order 13282 that the Office of Personnel Management (OPM) publish appropriate notice of the 2003 locality payments in the Federal Register.

GS employees receive locality payments under 5 U.S.C. 5304. Locality payments apply in the 48 contiguous States and the District of Columbia. In 2003, locality payments ranging from 9.62 percent to 21.08 percent apply to GS employees in 32 locality pay areas. These 2003 locality pay percentages, which replaced the locality pay percentages that were applicable in 2002, became effective on the first day of the first applicable pay period beginning on or after January 1, 2003. An employee's locality-adjusted annual rate of pay is computed by increasing his or her scheduled annual rate of basic pay (as defined in 5 U.S.C. 5302(8) and 5 CFR 531.602) by the applicable locality pay percentage. (See 5 CFR 531.604 and 531.605.)

Executive Order 13282 establishes the new Executive Schedule, which incorporates the 3.1 percent increase (rounded to the nearest $100) required under 5 U.S.C. 5318. The Executive order also reflects a decision by the President to increase the rates of basic pay for members of the Senior Executive Service (SES) by 3.1 percent (rounded to the nearest $100). The maximum rate of basic pay for SES members is limited by law to the rate for level IV of the Executive Schedule, which is now $134,000. (See 5 U.S.C. 5382.)

The Executive order adjusted the rates of basic pay for administrative law judges (ALJs) by 3.1 percent (rounded to the nearest $100). The maximum rate of basic pay for ALJs is also limited by law to the rate for level IV of the Executive Schedule, which is now $134,000. (See 5 U.S.C. 5372.)

The rates of basic pay for Board of Contract Appeals (BCA) members are calculated as a percentage of the rate for level IV of the Executive Schedule. (See 5 U.S.C. 5372a.) Therefore, BCA rates of basic pay were increased by approximately 3.1 percent. Also, the maximum rate of basic pay for senior-level (SL) and scientific or professional (ST) positions was increased by approximately 3.1 percent (to $134,000) because it is tied to the rate for level IV of the Executive Schedule. The minimum rate of basic pay for SL/ST positions is equal to 120 percent of the minimum rate of basic pay for GS-15 and thus was increased by 3.1 percent (to $102,168). (See 5 U.S.C. 5376.)

On December 5, 2002, the President's Pay Agent extended the 2003 locality-based comparability payments to the same Governmentwide and single-agency categories of non-GS employees that received the 2002 locality payments. The Governmentwide categories include members of the SES, employees in SL/ST positions, ALJs, and BCA members. The maximum locality rate of pay for these employees is the rate for level III of the Executive Schedule ($142,500 in 2003). By law, Executive Schedule officials are not authorized to receive locality pay. (See 5 U.S.C. 5304(h)(1)(iii).)

OPM published “Salary Tables for 2003,” (OPM Doc. 124-48-6) in May 2003. This publication provides complete salary tables incorporating the 2003 pay adjustments, information on general pay administration matters, locality pay area definitions, Internal Revenue Service withholding tables, and other related information. The rates of pay shown in this publication are the official rates of pay for affected employees and are hereby incorporated as part of this notice. You may purchase copies of “Salary Tables for 2003” from the Government Printing Office (GPO) by calling (202) 512-1800 (outside the DC area: 1-866-512-1800) or FAX (202) 512-2250. You may order copies directly from GPO on the Internet at http://bookstore.gpo.gov.

In addition, you can find pay tables on OPM's Internet Web site at http://www.opm.gov/oca/payrates/index.asp.

Office of Personnel Management.
Kay Coles James,
Director.

[FR Doc. 03-14244 Filed 6-5-03; 8:45 am]

BILLING CODE 6325-39-P